DEPARTMENT OF TRANSPORTATION

Federal Transit Administration

Environmental Impact Statement on New Transit Operations in Madison, WI

AGENCY: Federal Transit Administration, DOT.

ACTION: Notice of Intent To Prepare an Environmental Impact Statement (EIS).

SUMMARY: The Federal Transit Administration (FTA) and the City of Madison, WI (Madison) intend to prepare an Environmental Impact Statement (EIS) in accordance with the National Environmental Policy Act (NEPA) for a proposal by Madison to implement new transit operations in an approximately 13-mile travel corridor extending from the City of Middleton on the west, through the campus of the University of Wisconsin-Madison to the Isthmus of Madison, WI to the American Parkway interchange on US 151, southwest of Sun Prairie, WI and encompassing the surrounding urbanized areas.

Growing mobility challenges coupled with very limited opportunity for highway capacity expansion has prompted the communities in the area to consider investment in transportation improvements, both to supplement and enhance existing Metro bus service and to extend service to new markets throughout the corridor and in the region.

Alternatives proposed to be considered in the draft EIS include No Build, the Transportation System Management (TSM) Alternative and various Build Alternatives.

DATES: Comment Due Date: Written comments on the scope of alternatives and impacts to be considered should be sent to Madison by May 29, 2006. Scoping Meetings: An agency scoping meeting will be held at 1 p.m. on Wednesday, April 26, 2006, at Monona Terrace, One John Nolen Drive, in Madison, WI. A public scoping meeting open house will be held at the same location on Wednesday, April 26, 2006, from 5 p.m. to 8 p.m.

The scoping meeting sites are accessible to mobility-impaired individuals. If you need an interpreter, materials in alternate formats, or other accommodations to access this service, activity or program, please contact the City of Madison, Department of Planning and Development at (608) 266-4635, TDD (608) 266-4747. Please do so at least 48 hours prior to the meeting so that the proper arrangements can be made.

ADDRESSES: Send written comments on the project scope to David M. Trowbridge, Transport 2020 Project Manager, City of Madison Department of Planning and Development, 215 MLK Jr. Blvd., Madison, WI 53703-3348 or dtrowbridge@cityofmadison.com (608) 267-1148.

FOR FURTHER INFORMATION CONTACT: Victor Austin, Federal Transit Administration, Region 5 at (312) 886-1625.

SUPPLEMENTARY INFORMATION:

I. Scoping

The FTA and the City of Madison invite all interested individuals, organizations, businesses, and federal, state, and local agencies to comment on the purpose and need, project alternatives, and scope of the EIS. During the scoping process, comments should focus on the purpose and need for a project, identifying specific transportation problems to be evaluated, or on proposing transportation alternatives that may be less costly, more effective, or have fewer environmental impacts while improving mobility in the corridor.

Following the public scoping process, public outreach activities with interested parties or groups throughout the duration of work on the EIS will continue. The project Web site, http://www.transport2020.net, will be updated periodically to reflect the status of the project. Additional opportunities for public participation will be announced through mailings, notices, and press releases. Those wishing to be placed on the project mailing list may do so by contacting David M. Trowbridge, Transport 2020 Project Administrator at (608) 267-1148 or signing up at http://transport2020.net/Mailing.htm.

II. Description of Study Area and Project need

The Study Area includes the Isthmus, the University of Wisconsin and the most densely developed commercial and residential areas of central Dane County, extending from the city of Middleton on the west, through the campus of the University of Wisconsin-Madison to the Isthmus of Madison, WI to the American Parkway interchange on US 151, southwest of Sun Prairie, WI. This area contains the most serious congestion and mobility challenges in the region. The area also contains existing rail and roadway facilities that can support the proposed transportation strategies and systems.

Worsening mobility problems in Dane County's primary regional center, the central area of Madison which includes the city's commercial core, the University of Wisconsin Madison and major special events destinations, threatens to damage the region's high quality of life and the regional center's ability to absorb desirable residential and commercial growth.

Because of geographical constraints of the isthmus, environmental concerns primarily with area lakes, and quality-of-life issues presented by the public, the possibility of addressing the area's transportation problems through roadway capacity expansion is limited.

Given growing mobility challenges, coupled with very limited opportunity for highway capacity expansion to address them, a potentially promising alternative is investment in transit to supplement and enhance existing Metro bus service and to extend service to new markets throughout this regional corridor.

III. Alternatives

A Locally Preferred Alternative (LPA) emerged from the evaluation and public involvement process conducted previously (Transport 2020). The alternatives analyzed in that study are fully described in the Transport 2020 Transportation Alternatives Analysis for the Dane County/Greater Madison Metropolitan Area final report dated August 23, 2002. The DEIS will assess the environmental impacts of a range of alternatives including (1) The No Build Alternative; (2) the Transportation System Management (TSM) Alternative; and (3) the Build Alternatives using existing rail corridors, with possible street-running alternative alignments.

The No-Build Alternative will include existing transit services and facilities and those planned and programmed as new transportation services, facilities, and system management improvements that are already included in the 2035 Regional Transportation System Plan for Southeastern Wisconsin.

The TSM Alternative will include operational and low cost capital investments to the existing transit services in the corridor, providing a level of capital investment that is greater than the No-Build Alternative but significantly less than other Build Alternatives.

Build Alternatives would include both street-running and rail alternatives using either bus or rail technology. The Build Alternatives will include but not be limited to the refinement of the initial Start-Up System, or Minimum Operable Segment (MOS) identified in the Locally Preferred Alternative from the prior Alternatives Analysis. The MOS includes: (1) Expanding the Madison Metro local bus system; (2) Adding new express bus routes running inbound during a.m. peak periods and outbound during p.m. peak periods; (3) Adding new park and ride lots, primarily at express bus route terminal locations; and (4) Adding commuter rail service running approximately 13 miles between Middleton and East Towne using FRA-compliant, self-propelled vehicles (DMUs). In addition to these initially identified alternatives, other alternatives generated by the scoping process may be considered.

IV. Potential Impacts for Analysis

The EIS will evaluate the impacts of all reasonable alternatives on land use, zoning, displacements, parklands, economic development, community disruptions, environmental justice, aesthetics, air quality, noise and vibration, wildlife, vegetation, threatened and endangered species, farmland, water quality, wetlands, waterways, floodplains, hazardous materials, and cultural, historic, and archaeological resources.

The EIS will take into account both positive and negative impacts, direct and indirect impacts, short-term and long-term impacts and site-specific and corridor wide impacts. Evaluation criteria will be consistent with all Federal, State of Wisconsin and local criteria, regulations and policies. The EIS will identify measures to avoid or mitigate significant adverse environmental impacts.

To ensure that all significant issues related to this proposed action are identified and addressed, scoping comments and suggestions are invited from all interested parties. Comments and questions should be directed to Madison as noted in the ADDRESSES section above.

V. FTA Procedures

In accordance with FTA policy, all federal laws, regulations and executive orders affecting project development, including but not limited to, the regulations of the Council on Environmental Quality (40 CFR parts 1500-1508 and 23 CFR part 771), the 1990 Clean Air Act Amendments, Section 404 of the Clean Water Act, Executive Order 12898 regarding environmental justice, the National Historic Preservation Act, the Endangered Species Act, and Section 4(f) of the Department of Transportation Act, will be addressed to the maximum extent possible during the NEPA process.

A DEIS will be prepared and made available for public and agency review and comment. A public hearing will be held on the DEIS. Based on the DEIS and the public and agency comments received, the preferred alternative will be further refined as necessary and the Final Environmental Impact Statement will be prepared.

Issued on: April 12, 2006.
Don Gismondi,
Deputy Regional Administrator.

[FR Doc. 06-3715 Filed 4-18-06; 8:45 am]

BILLING CODE 4910-57-M